DEPARTMENT OF AGRICULTURE

Commodity Credit Corporation

Domestic Sugar Program—2022-Crop Overall Sugar Marketing Allotment, Cane Sugar and Beet Sugar Marketing Allotments and Company Allocations

AGENCY: Commodity Credit Corporation, USDA.

ACTION: Notice.

SUMMARY: The United States Department of Agriculture (USDA) is issuing this notice to increase the fiscal year (FY) 2022 overall sugar marketing allotment quantity (OAQ), State cane sugar allotments, and revise company allocations to sugar beet and sugar cane processors, which apply to all domestic beet and cane sugar marketed for human consumption in the United States from October 1, 2021, through September 30, 2022.

FOR FURTHER INFORMATION CONTACT: Kent Lanclos, telephone, (202) 720-0114; or email, kent.lanclos@usda.gov. Persons with disabilities who require alternative means for communication should contact the USDA Target Center at (202) 720-2600 (voice).

SUPPLEMENTARY INFORMATION: On September 30, 2021, USDA announced the initial fiscal year 2022 OAQ, which was established at 10,370,000 short tons, raw value, (STRV) equal to 85 percent of the estimated quantity of sugar for domestic human consumption for the fiscal year of 12,200,000 STRV as forecast in the September 2021 World Agricultural Supply and Demand Estimates report. The Agricultural Adjustment Act of 1938, as amended, requires that 54.35 percent of the OAQ be distributed among beet processors and 45.65 percent be distributed among the sugarcane States and cane processors.

Some beet processors anticipate that their FY 2022 beet sugar supplies will exceed their FY 2022 marketing allocation, a phenomenon known as “blocked stocks.” Given the expected large amount of blocked beet sugar stocks and current high sugar prices, USDA is increasing the FY 2022 OAQ to 10,802,657 STRV. The revised beet sector allotment is 5,871,244 STRV (an increase of 235,149) and the revised cane sector allotment is 4,931,413 STRV (an increase of 197,508). The revised beet and cane sector allotments are distributed to individual processors according to formulas contained in the authorizing legislation for the Sugar Program,¹ as shown in the Table below (see the column titled “Preliminary Adjusted Allocation”).

¹ The authority for the Sugar Program is in 7 U.S.C. 1359aa-1359jj, 7272, and 8110; and 15 U.S.C. 714b and 714c.

FY 2022 Overall Beet/Cane Allotments and Allocations
[Short tons, raw values]
Distribution | Increase in OAQ: Initial FY 2022 allocation | Increase in OAQ: Amount of allocation increase | Increase in OAQ: Preliminary adjusted allocation | Reassignments: Reassigned amount | Reassignments: Adjusted FY 2022 allocation as of December 2021
Beet Sugars | 5,636,095 | 235,149 | 5,871,244 | 0 | 5,871,244
Cane Sugar | 4,733,905 | 197,508 | 4,931,413 | 0 | 4,931,413
Total OAQ | 10,370,000 | 432,657 | 10,802,657 | 0 | 10,802,657
Beet Processors Marketing Allocations:
Amalgamated Sugar Co | 1,206,731 | 50,347 | 1,257,078 | 30,761 | 1,287,839
American Crystal Sugar Co | 2,072,759 | 86,480 | 2,159,239 | -86,480 | 2,072,759
Michigan Sugar Co | 582,071 | 24,285 | 606,356 | 107,669 | 714,025
Minn-Dak Farmers Co-op | 391,421 | 16,331 | 407,752 | 64,580 | 472,332
So. Minn Beet Sugar Co-op | 760,693 | 31,738 | 792,431 | -77,422 | 715,009
Western Sugar Co | 575,228 | 24,000 | 599,228 | -47,840 | 551,388
Wyoming Sugar Co. LLC | 47,192 | 1,969 | 49,161 | 8,732 | 57,893
Total Beet Sugar | 5,636,095 | 235,149 | 5,871,244 | 0 | 5,871,244
State Cane Sugar Allotments:
Florida | 2,544,366 | 106,156 | 2,650,522 | 0 | 2,650,522
Louisiana | 1,968,353 | 82,124 | 2,050,477 | 0 | 2,050,477
Texas | 221,186 | 9,228 | 230,414 | 0 | 230,414
Total Cane Sugar | 4,733,905 | 197,508 | 4,931,413 | 0 | 4,931,413
Cane Processors' Marketing Allocation:
Florida
Florida Crystals | 1,047,582 | 43,707 | 1,091,290 | 0 | 1,091,290
Growers Co-op of FL | 457,694 | 19,096 | 476,790 | 0 | 476,790
U.S. Sugar Crop | 1,039,090 | 43,353 | 1,082,443 | 0 | 1082,443
Total | 2,544,366 | 106,156 | 2,650,522 | 0 | 2,650,522
Louisiana
Louisiana Sugar Cane Products, Inc | 1,366,493 | 57,013 | 1,423,506 | 0 | 1,423,506
M.A. Patout & Sons | 601,860 | 25,111 | 626,971 | 0 | 626,971
Total | 1,968,353 | 82,124 | 2,050,477 | 0 | 2,050,477
Texas
Rio Grande Valley | 221,186 | 9,228 | 230,414 | 0 | 230,414

In accordance with section 359e of the Agricultural Adjustment Act of 1938, as amended, after evaluating each sugar beet processor's ability to market its full allocation after the OAQ increase, USDA is transferring allocations from beet sugar processors with surplus allocation to those with deficit allocation as shown in the Table above, in the column titled “Adjusted FY 2022 Allocations as of December 2021.”

These actions will result in a transfer of 304,674 STRV of allocation to beet processors with a deficit allocation, an amount sufficient to allow them to market their entire FY 2022 beet sugar supply. USDA has determined that no reassignment of allotments among sugarcane States and allocations among cane processors is necessary at this time.

USDA will closely monitor stocks, consumption, imports and all sugar market and program variables on an ongoing basis and may make further program adjustments during FY 2022 if needed.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA TARGET Center at (202) 720-2600 (voice and TTY) or (844) 433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Robert Ibarra,
Acting Executive Vice President, Commodity Credit Corporation.

[FR Doc. 2021-27766 Filed 12-21-21; 8:45 am]

BILLING CODE 3410-01-P